DEPARTMENT OF AGRICULTURE

Forest Service

Chugach National Forest, Resurrection Creek Stream and Riparian Restoration Project

AGENCY: Forest Service, USDA.

ACTION: Notice of intent to prepare an environmental impact statement.

SUMMARY: In accordance with the National Environmental Policy Act, notice is hereby given that the Forest Service, Chugach National Forest will prepare a Draft Environmental Impact Statement to disclose the environmental consequences of the proposed Resurrection Creek Stream and Riparian Restoration Project which encompasses approximately 120 acres of National Forest System Land (NFS) and approximately 18 acres of adjacent private lands. Historic placer mining operations have affected Resurrection Creek by straightening and simplifying the stream, and separating it from its floodplain. These impacts have degraded fish rearing and spawning habitat on Resurrection Creek, as well as adjacent wildlife riparian habitat for species such as bears and eagles. Natural recovery from mining impacts has been minimal on this segment of Resurrection Creek. The proposed project would greatly accelerate the recovery of riparian areas, and fish and wildlife habitat on Resurrection Creek. In order to move towards the desired future condition as described in the Chugach National Forest Land and Resource Management Plan as well as meet the purpose and need of the project proposal to restore Resurrection Creek's channel, floodplain and streamside vegetation to pre-mining conditions and enhance fish and riparian wildlife habitat, proposed activities include: (1) Providing access for heavy equipment, which might include a temporary bridge or stream crossing over Resurrection Creek and Palmer Creek; (2) mechanical manipulation and grading of up to 140,000 cubic yards of mine tailings to recover floodplain width and elevations; (3) excavation of a meandering river channel and adjacent side channels, including the development of a channel instream pools and spawning habitat; (4) harvesting up to 5,000 trees, with and without root wads, for use on the new river channel and floodplain. Trees would be taken primarily from the project area. If constraints to harvest at the project area are too high, additional off-site harvest in areas that have gone through a separate NEPA analysis might be needed; (5) replacing soils and organics stripped away during historic placer mining operations Soil enhancement would improve growing conditions for native plant communities in constructed floodplains and riparin areas. Soil and sod would likely be gathered from source areas both within and outside the project area; (6) thinning existing overstocked riparian sapling spruce and cottonwood stands adjacent to Resurrection Creek; (7) re-vegetation of native plant species on constructed floodplains and riparian areas. Natural re-vegetation (without planting) would be used where seed sources and site conditions are favorable. Where such conditions are lacking, the site would be planted; and (8) stockpiling excess tailings could occur within the project area or off-site.

DATES: Comments concerning the scope of the analysis must be received within 30 days of publication of this notice in the Federal Register. The draft environmental impact statement is expected to be available for public review in January 2004 and the final environmental impact statement is expected to be available in May 2004.

ADDRESSES: Submit written, oral, or email comments by: (1) Mail—Resurrection Creek Restoration Project, Dave Blanchet, 3301 C Street, Suite 300, Anchorage, Alaska, Zip Code 99503-3998. (2) phone—(907) 743-9538; (3) e-mail—dblanchet@fs.fed.us.

FOR FURTHER INFORMATION CONTACT: Dave Blanchet at (907) 743-9538.

SUPPLEMENTARY INFORMATION:

Purpose and Need for Action

The purpose and need for action of the Resurrection Creek Stream and Riparian Restoration Project is to accelerate the recovery of riparian areas, and fish and wildlife habitat on a 0.8 mile segment of Resurrection Creek. Natural recovery from mining impacts has been minimal on this segment of Resurrection Creek. Historic placer mining operations have affected Resurrection Creek by straightening and simplifying the stream, and separating it from its floodplain. These impacts have degraded fish rearing and spawning habitat on Resurrection Creek, as well as adjacent wildlife riparian habitat for species such as bears and eagles. Natural recovery from mining impacts has been minimal on this segment of Resurrection Creek. The proposed project would greatly accelerate the recovery of riparian areas, and fish and wildlife habitat on Resurrection Creek. There is a need to examine a portion of the creek immediately downstream of the project area on private land within the Haun Trust lands. Additional restoration activities may be implemented on the Haun Trust lands in lieu of gaining access to the project area through this site.

Proposed Action

The proposed actions to meet the purpose and need include: (1) Providing access for heavy equipment, which might include a temporary bridge or stream crossing over Resurrection Creek and Palmer Creek; (2) mechanical manipulation and grading of up to 140,000 cubic yards of mine tailings to recover floodplain width and elevations; (3) excavation of a meandering river channel and adjacent side channels, including the development of a channel with instream pools and spawning habitat; (4) harvesting up to 5,000 trees, with and without root wads, for use on the new river channel and floodplain. Trees would be taken primarily from the project area. If constraints to harvest at the project area are high, additional off-site harvest in areas that have gone through a separate NEPA analysis might be needed; (5) replacing soils and organics stripped away during historic placer mining operations. Soil enhancement would improve growing conditions for native plant communities in constructed floodplains and riparian areas. Soil and sod would likely be gathered from source areas both within and outside the project area; (6) thinning existing overstocked riparian sapling spruce and cottonwood stands adjacent to Resurrection Creek; and (7) re-vegetation of native plant species on constructed floodplains and riparian areas. Natural re-vegetation (without planting) would be used where seed sources and site conditions are favorable. Where such conditions are lacking, the site would be planted.

Responsible Official

The responsible official for the Resurrection Creek Stream and Riparian Restoration Project is Joe Meade, Forest Supervisor, Chugach National Forest.

Nature of Decision To Be Made

The Resurrection Creek Restoration environmental impact statement will evaluate site specific management proposals, consider alternatives, and analyze the effects of the activities proposed in these alternatives. It will form the basis for the Responsible Official to determine: (1) Whether or not the proposed activities and alternatives are responsive to the issues, are consistent with Forest Plan direction, meet the purpose and need, and are consistent with other related laws and regulations directing National Forest Management Activities; (2) which actions, if any, to approve; (3) and, whether or not the information in the analysis is sufficient to implement proposed activities.

Scoping Process

Two previous scoping efforts have occurred for this project. The first effort began on February 5, 2003, and the second on June 6, 2003. Since these scoping comment opportunities were provided to the public, the Forest Service has gathered more information regarding this proposal. Subsequently the Forest Service has determined that the appropriate level of analysis for this proposal is an environmental impact statement.

Comments will be accepted during the 30-day scoping period as described in this notice of intent. Those who provided comments to the previous scoping notices that wish to supplement their earlier comments are encouraged to do so. However, previous comments on this proposal will still be used in the analysis process. Comments will be reviewed and issues identified. Issues that cannot be resolved by mitigation or minor changes to the proposed action may generate alternatives to the proposed action. This process is driven by comments received from the public, other agencies, and internal Forest Service concerns. To assist in commenting, a scoping letter providing more detailed information on the project proposal has been prepared and is available to interested parties. Contact Dave Blanchet, at the address listed in this notice of intent if you would like to receive a copy.

Preliminary Issues

Some preliminary issues have been identified based on past public scoping efforts for the project area, issues developed for similar projects, and Forest Service concerns and opportunities identified by resource specialist. These issues include the following:

1. Direct short term impacts to fish and their habitat from construction activities. Possible impacts to fish and their habitat are temporary loss of habitat, turbidity during construction activities could cause gill abrasion. Some fish will be stranded and buried.

2. Methyl mercury may be present in the project reach. Mercury was used historically to separate fine gold from the “black sands” after the sands had been sorted from the stream gravels. Potential may exist for a release of methyl mercury during restoration which might be a hazard to fish, wildlife, and the public.

3. Presence of heavy equipment could impact landowners and their business during construction of the channel and floodplain. Restoration activities could impact nearby landowners and their business (resort) during construction through the presence of noise, odor, dust, and visual quality.

4. Lack of an easement through private lands on the east side of Resurrection Creek to the project area. Access to the project area requires crossing ¼ mile of a private land (Haun Trust Lands) immediately downstream from the project area. The Forest Service needs access to the east side of Resurrection Creek to implement the project. A temporary bridge or other type of crossing may be needed over Resurrection Creek, on its west wide in order to access an existing easement through the private lands.

5. Examine the potential of additional restoration/construction activities on private lands immediately downstream from the project area.

6. Recreational mining—Recreational mining has potential to damage/erode the channel after reconstruction is complete. There is a need to consider limitations on recreational mining activities that have potential to impact the newly created and vegetated stream banks. A potential limitation to this activity would be to issuing a closure order on recreation mining in the restoration area.

7. Heritage Resources—Construction activities have the potential for disturbing and/or damaging undiscovered mining artifacts and prehistoric cultural artifacts and sites within the project area.

8. Other issues include impacts to recreationists during construction, impacts to scenery during and after construction, impacts to water quality, impacts to fish and wildlife habitat, introduction of noxious weed, impacts to wetlands, and how to dispose of excess tailings.

These issues may be modified as additional issues are identified during scoping. A range of alternatives will be considered after public comments are received and analyzed.

Comments Requested

This notice of intent initiates the scoping process that guides the development of the environmental impact statement. Comments that are site-specific in nature are most helpful to resource professionals when trying to narrow and address the public's issues and concerns.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 9, 2003.
Joe L. Meade,
Forest Supervisor.

[FR Doc. 03-26292 Filed 10-16-03; 8:45 am]

BILLING CODE 3410-11-M